DEPARTMENT OF THE INTERIOR

National Park Service

Notice of Inventory Completion: Western Michigan University, Anthropology Department, Kalamazoo, MI

AGENCY: National Park Service, Interior.

ACTION: Notice.

Notice is here given in accordance with the Native American Graves Protection and Repatriation Act (NAGPRA), 25 U.S.C. 3003, of the completion of the inventory of human remains and associated funerary objects in the possession of Western Michigan University, Anthropology Department, Kalamazoo, MI. The human remains and associated funerary objects were removed from Mackinac County, MI.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Western Michigan University professional staff in consultation with representatives of the Little Traverse Bay Bands of Odawa Indians, Michigan, and the Sault Ste. Marie Tribe of Chippewa Indians of Michigan.

In 1972, human remains representing a minimum of two individuals were removed from the Beyer Site, Mackinac County, MI, as part of the St. Ignace archeological survey under the direction of Dr. James Fitting. The burial was encountered in a single excavation unit and found to be partially disturbed, most likely from agricultural plowing evident across the site area. The burial collection was transferred to Western Michigan University for curation and further analysis. Dr. Robert Sundick, a physical anthropologist in the Anthropology Department at Western Michigan University, studied the human remains. The three associated funerary objects are a small amount of unidentified animal bone, a lot of wood charcoal, and one piece of chipped stone debitage.

The human remains were determined to be of Native American ancestry based on skeletal and dental morphology. The determination of a date from around 1650 C.E was based on stratigraphy, ceramic association, and associated trade goods, in particular local and foreign material gunflints. French missionary and military accounts make it clear that Odawa and Ojibway peoples inhabited both shores of the Straits of Mackinac as early as 1650; their oral histories indicate that they occupied this area for generations before the French arrived. In 1671, the Jesuits established a mission at St. Ignace and noted that many Odawa people lived there. During the time that the Beyer Site was occupied, circa 1650 C.E., the Odawa and Ojibway were the major tribes living in the St. Ignace area, in addition to some Huron groups. In 1649, Huron/Wyandotte refugees fled Iroquois attacks in Ontario and some ultimately settled on the north side of the Straits at present-day St. Ignace. Although the tribal affiliation of the human remains found at St. Ignace is not scientifically certain, the remains are likely culturally affiliated with the Odawa, as they were the tribe most commonly reported in the area during the period in question. Cultural affiliation between the Beyer Site human remains and the Little Traverse Bay Bands of Odawa Indians, Michigan, is based on their historic continuity of occupation in the St. Ignace area. Although the Beyer Site material may relate to the Ojibway or Huron refugees, the NAGPRA coordinator of the Sault Ste. Marie Tribe of Chippewa Indians of Michigan (modern descendants of the Ojibway) has sent Western Michigan University letters of support for the repatriation of the human remains removed from the Beyer Site to the Little Traverse Bay Bands of Odawa Indians, Michigan. Consequently, the preponderance of archeological, historic, and consultation evidence connects the Beyer Site to the Odawa Indians.

Officials of Western Michigan University have determined that, pursuant to 25 U.S.C. 3001 (9-10), the human remains described above represent the physical remains of two individuals of Native American ancestry. Officials of Western Michigan University also have determined that, pursuant to 25 U.S.C. 3001 (3)(A), the three objects described above are reasonably believed to have been placed with or near individual human remains at the time of death or later as part of the death rite or ceremony. Lastly, officials of Western Michigan University have determined that, pursuant to 25 U.S.C. 3001 (2), there is a relationship of shared group identity that can be reasonably traced between the Native American human remains and associated funerary objects and the Little Traverse Bay Bands of Odawa Indians, Michigan.

Representatives of any other Indian tribe that believes itself to be culturally affiliated with the human remains and associated funerary objects should contact LouAnn Wurst, Department of Anthropology, Western Michigan University, 1005 Moore Hall, Kalamazoo, MI 49008, telephone (269) 387-2753, before March 3, 2010. Repatriation of the human remains and associated funerary objects to the Little Traverse Bay Bands of Odawa Indians, Michigan may proceed after that date if no additional claimants come forward.

Western Michigan University is responsible for notifying the Little Traverse Bay Bands of Odawa Indians, Michigan, and Ste. Marie Tribe of Chippewa Indians of Michigan that this notice has been published.

Dated: January 5, 2010
Sherry Hutt,
Manager, National NAGPRA Program.

[FR Doc. 2010-2008 Filed 1-29-10; 8:45 am]

BILLING CODE 4312-50-S